DEPARTMENT OF ENERGY

Federal Energy Regulatory Commission

[Project No. 2150-033]

Puget Sound Energy, Inc., Washington; Notice of Intent To Hold Public Meetings for the Baker River Hydroelectric Project

April 11, 2006.

In accordance with the National Environmental Policy Act of 1969 and the Federal Energy Regulatory Commission's (Commission) regulations, 18 CFR part 380 (Order No. 486, 52 FR 47897), the Office of Energy Projects has reviewed the application for a license for the Baker River Hydroelectric Project (FERC No. 2150-033), located on the Baker River in Whatcom and Skagit counties, Washington and has prepared a Draft Environmental Impact Statement (EIS) for the project. The project occupies 5,207 acres of lands within the Mt. Baker-Snoqualmie National Forest managed by the U.S. Forest Service.

Copies of the draft EIS are available for review in the Commission's Public Reference Branch or may be viewed on the Commission's Web site at http://www.ferc.gov under the eLibrary link. Enter the docket number excluding the last three digits in the docket number field to access the document. For assistance, contact FERC Online Support at FERCOnlineSupport@ferc.gov or toll-free at (866) 208-3676, or for TTY, (202) 502-8659.

You are invited to attend one or both public meetings we are holding to receive comments on the draft EIS. The time and location of these meetings are:

Date: Monday, May 1, 2006.

Time: 9 a.m.-5 p.m. (pst).

Place: U.S. Army Corps of Engineers District Office in Seattle, Washington.

Address: 4735 E. Marginal Way S., Seattle, Washington.

Room: Galaxy Meeting Room.

Date: Tuesday, May 2, 2006.

Time: 6 p.m.-9 p.m. (pst).

Place: Best Western Cotton Tree Inn.

Address: 2300 Market Street, Mt. Vernon, Washington.

At these meetings, resource agency personnel and other interested persons will have the opportunity to provide oral and written comments and recommendations regarding the draft EIS. The meetings will be recorded by a court reporter, and all statements (verbal and written) will become part of the Commission's public record for the project. These meetings are posted on the Commission's calendar located at: http://www.ferc.gov/EventCalendar/EventsADay.aspx?Date=5/1/2006&CalendarID=0 along with other related information.

Whether, or not you attend one of these meetings, you are invited to submit written comments on the draft EIS. Comments should be filed with Magalie R. Salas, Secretary, Federal Energy Regulatory Commission, 888 First Street, NE., Washington, DC 20426. All comments must be filed by May 30, 2006, and should reference Project No. 2150-033. Comments may be filed electronically via the Internet in lieu of paper. The Commission strongly encourages electronic filings. See 18 CFR 385.2001(a)(1)(iii) and instructions on the Commission's Web site at http://www.ferc.gov under the e-Library link.

The Commission staff will consider comments made on the draft EIS in preparing a final EIS for the project. Before the Commission makes a licensing decision, it will take into account all concerns relevant to the public interest. The final EIS will be part of the record from which the Commission will make its decision.

By this notice, we are modifying our processing schedule for Puget's license application. The modified schedule is:

Issue Final Environmental Impact Statement: June 2006.

Ready for Commission Decision on Application: September 2006.

For further information, contact Steve Hocking at (202) 502-8753 or at steve.hocking@ferc.gov.

Magalie R. Salas,
Secretary.

[FR Doc. E6-5730 Filed 4-17-06; 8:45 am]

BILLING CODE 6717-01-P